Title 3—

The President

Memorandum of September 27, 2013

Delegation of Authority Under Sections 552(c)(2) and 614 of the Foreign Assistance Act of 1961, as Amended

Memorandum for the Secretary of State

By the authority vested in me as President by the Constitution and the laws of the United States of America, including section 301 of title 3, United States Code, I hereby delegate to the Secretary of State:

(1) the authority under section 552(c)(2) of the Foreign Assistance Act of 1961, as amended (FAA), to direct the drawdown of up to $15 million in nonlethal commodities and services from any department or agency of the United States to provide assistance for the Syrian Opposition Coalition (SOC) and the Supreme Military Council (SMC), and to make the determinations required under such section to direct such a drawdown; and

(2) the authority under section 614 of the FAA to determine whether it is important to the security interests of the United States to furnish such assistance to the SOC and the SMC without regard to any other provision of law within the purview of section 614(a)(1) of the FAA.

You are authorized and directed to publish this memorandum in the Federal Register.

THE WHITE HOUSE,

Washington, September 27, 2013

[FR Doc. 2013-24777

Filed 10-18-13; 11:15 am]

Billing code 3295-F4